DEPARTMENT OF COMMERCE

International Trade Administration

[A-428-840]

Lightweight Thermal Paper From Germany: Final Results of Antidumping Duty Administrative Review; 2010-2011

AGENCY: Import Administration, International Trade Administration, Department of Commerce.

SUMMARY: On December 11, 2012, the Department of Commerce (the Department) published the preliminary results of the administrative review of the antidumping duty order on lightweight thermal paper from Germany.¹ The period of review (POR) is November 1, 2010, through October 31, 2011. We invited interested parties to comment on the preliminary results. After reviewing the comments received, we made no changes to the dumping margin assigned to Papierfabrik August Koehler AG (Koehler). Therefore, the final results do not differ from the preliminary results. The final dumping margin for Koehler is listed below in the section entitled “Final Results of Review.”

¹ See Lightweight Thermal Paper from Germany; Preliminary Results Antidumping Duty Administrative Review; 2010-2011, 77 FR 73615 (December 11, 2012) (Preliminary Results).

DATES: Effective Date: April 18, 2013.

FOR FURTHER INFORMATION CONTACT: David Goldberger or Terre Keaton Stefanova, AD/CVD Operations, Office 2, Import Administration, International Trade Administration, U.S. Department of Commerce, 14th Street and Constitution Avenue NW., Washington, DC, 20230; telephone (202) 482-4136 or (202) 482-1280, respectively.

Background

Since the publication of the Preliminary Results, the following events have occurred. In January 2013, Koehler submitted a case brief, the petitioner (Appleton Papers Inc.) submitted its rebuttal brief, and both parties requested a hearing. On February 13, 2013, we held a public hearing.

The Department has conducted this administrative review in accordance with section

751(a)(1) of the Tariff Act of 1930, as amended (the Act).

Scope of the Order

The merchandise covered by the order is lightweight thermal paper. The merchandise subject to the order is currently classified under the following Harmonized Tariff Schedule of the United States (HTSUS) subheadings: 3703.10.60, 4811.59.20, 4811.90.8000, 4811.90.8030, 4811.90.8040, 4811.90.8050, 4811.90.9000, 4811.90.9030, 4811.90.9035, 4811.90.9050, 4811.90.9080, 4811.90.9090, 4820.10.20, and 4823.40.00. Although the HTSUS numbers are provided for convenience and customs purposes, the written product description, available in the Order, remains dispositive.²

² For a complete description of the scope, see Antidumping Duty Orders: Lightweight Thermal Paper from Germany and the People's Republic of China, 73 FR 70959 (November 24, 2008) (Order). See also Preliminary Results and accompanying Decision Memorandum for Preliminary Results of Antidumping Duty Administrative Review: Lightweight Thermal Paper from Germany (Preliminary Decision Memorandum).

Application of Adverse Facts Available (AFA)

In the Preliminary Results, we found that Koehler: (A) Withheld information that had been requested by the Department; (B) failed to provide such information in a timely manner or in the form or manner requested; (C) significantly impeded this proceeding; and (D) provided information that cannot be verified. In addition, we found that Koehler did not act to the best of its ability to respond to the Department's requests for information. Therefore, pursuant to sections 776(a) and (b) of the Act, we determined that the use of AFA was appropriate as the basis for the dumping margin for Koehler.³ Having considered the arguments raised by the parties in the case and rebuttal briefs, we continue to find that the application of AFA is warranted and have assigned to Koehler a dumping margin of 75.36 percent.

³ See Preliminary Results, Preliminary Decision Memorandum, and Memorandum to the File entitled “Lightweight Thermal Paper from Germany: Preliminary Results of Antidumping Duty Administrative Review: Application of Total Adverse Facts Available to Koehler,” dated December 3, 2012.

Analysis of Comments Received

All issues raised in the case and rebuttal briefs by parties are addressed in the memorandum entitled, “Issues and Decision Memorandum for the Final Results of the 2010-2011 Administrative Review on Lightweight Thermal Paper from Germany (Issues and Decision Memo),” which is dated concurrently with, and adopted by, this notice. A list of the issues which parties raised and to which we respond in the Issues and Decision Memo is attached to this notice as Appendix I. The Issues and Decision Memo is a public document and is on file electronically via Import Administration's Antidumping and Countervailing Duty Centralized Electronic Service System (IA ACCESS). IA ACCESS is available to registered users at http://iaaccess.trade.gov and in the Central Records Unit (CRU), room 7046 of the main Department of Commerce building. In addition, a complete version of the Issues and Decision Memo can be accessed directly on the Internet at http://www.trade.gov/ia/. The signed Issues and Decision Memo and the electronic version of the Issues and Decision Memo are identical in content.

Final Results of the Review

We made no changes to our preliminary results. Therefore, we are assigning the following dumping margin to Koehler for the period November 1, 2010, through October 31, 2011.

Manufacturer/Exporter | Percent margin
Papierfabrik August Koehler AG | 75.36

Assessment Rates

The Department will determine, and U.S. Customs and Border Protection (CBP) shall assess, antidumping duties on all appropriate entries, in accordance with 19 CFR 351.212(b). The Department intends to issue appropriate assessment instructions directly to CBP 15 days after publication of these final results of review. For Koehler's U.S. sales, we will base the assessment rate assigned to the corresponding entries on AFA, as noted above.

Cash Deposit Requirements

The following cash deposit requirements will be effective for all shipments of lightweight thermal paper from Germany entered, or withdrawn from warehouse, for consumption on or after the publication date of the final results of this administrative review, as provided by section 751(a)(2)(C) of the Act: (1) The cash deposit rate for Koehler will be the rate established in the final results of this administrative review; (2) for previously reviewed or investigated companies not participating in this review, the cash deposit rate will continue to be the company-specific rate published for the most recent period; (3) if the exporter is not a firm covered in this review, a previous review, or the original less-than-fair-value investigation, but the manufacturer is, the cash deposit rate will be the rate established for the most recent period for the manufacturer of the merchandise; and (4) the cash deposit rate for all other manufacturers or exporters will continue to be 6.50 percent, the all-others rate established in the investigation.⁴ These deposit requirements, when imposed, shall remain in effect until further notice.

⁴ See Order.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification to Interested Parties

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This administrative review and notice are published in accordance with sections 751(a)(1) and 777(i)(1) of the Act and 19 CFR 351.221.

Dated: April 10, 2013.
Paul Piquado,
Assistant Secretary for Import Administration.

Appendix I

List of Topics Discussed in the Issues and Decision Memo

1. Application of Total Adverse Facts Available (AFA).

2. Selection of the AFA Rate.

[FR Doc. 2013-09049 Filed 4-17-13; 8:45 am]

BILLING CODE 3510-DS-P